DEPARTMENT OF TRANSPORTATION

Federal Aviation Administration

14 CFR Part 71

[Airspace Docket No. 00-AEA-15]

Amendment to Class E Airspace, Seneca Falls, NY

AGENCY: Federal Aviation Administration (FAA), DOT.

ACTION: Final rule; correction.

SUMMARY: This action corrects an error in the geographic coordinates of a final rule that was published in the Federal Register on April 13, 2001, Airspace Docket No. 00-AEA-15. The final rule established Class E airspace at Seneca Falls, NY.

EFFECTIVE DATE: September 25, 2001.

FOR FURTHER INFORMATION CONTACT: Mr. Francis T. Jordan, Jr., Airspace Specialist, Airspace Branch, AEA-520 F.A.A. Eastern Region, 1 Aviation Plaza, Jamaica, NY 11434-4809; telephone: (718) 553-4521.

SUPPLEMENTARY INFORMATION:

History

Federal Register Document 01-7420, Airspace Docket No. 00-AEA-15, published on April 13, 2001 (66 FR 19082), established Class E airspace at Seneca Falls, NY. An error was discovered in the geographic coordinates for the Finger Lakes Regional Airport. This action corrects those errors.

Correction to Final Rule

Accordingly, pursuant to the authority delegated to me, the geographic coordinates for the Seneca Lake Regional Airport as published in the Federal Register on April 13, 2001 (66 FR 19082) are corrected as follows:

§ 71.1 [Amended]

On page 19083, column 2, in the airspace designation for Seneca Falls, NY, third line, correct “(lat. 42°52′38.58 N/long. 76°46.54′ W)” to read “(lat. 42°52′59″ N/long. 76°46′54″ W)”

Issued in Jamaica, New York on September 10, 2001.
F.D. Hatfield,
Manager, Air Traffic Division, Eastern Region.

[FR Doc. 01-23944 Filed 9-24-01; 8:45 am]

BILLING CODE 4910-13-M